DEPARTMENT OF HOMELAND SECURITY

Coast Guard

33 CFR Part 117

[Docket No. USCG-2012-0006]

Drawbridge Operation Regulations; Merrimack River, Amesbury, MA

AGENCY: Coast Guard, DHS.

ACTION: Notice of temporary deviation from regulations.

SUMMARY: The Commander, First Coast Guard District, has issued a temporary deviation from the regulation governing the operation of the 1st Lt. Derek S. Hines Memorial Bridge, mile 5.8, across the Merrimack River at Amesbury (Newburyport), Massachusetts. The deviation is necessary to facilitate bridge rehabilitation and repairs. This deviation allows the bridge to remain in the closed position for four months.

DATES: This deviation is effective from February 13, 2012 through May 11, 2012.

ADDRESSES: Documents mentioned in this preamble as being available in the docket are part of docket USCG-2012-0006 and are available online at www.regulations.gov, inserting USCG-2012-0006 in the “Keyword” and then clicking “Search”. They are also available for inspection or copying at the Docket Management Facility (M-30), U.S. Department of Transportation, West Building Ground Floor, Room W12-140, 1200 New Jersey Avenue SE., Washington, DC 20590, between 9 a.m. and 5 p.m., Monday through Friday, except Federal holidays.

FOR FURTHER INFORMATION CONTACT: If you have questions on this rule, call or email Mr. Joe Arca, Project Officer, First Coast Guard District, joe.m.arca@uscg.mil or telephone (212) 668-7165. If you have questions on viewing the docket, call Renee V. Wright, Program Manager, Docket Operations, telephone (202) 366-9826.

SUPPLEMENTARY INFORMATION: The 1st Lt. Derek S. Hines Memorial Bridge, across the Merrimack River, mile 5.8, at Amesbury (Newburyport), Massachusetts, has a vertical clearance in the closed position of 13 feet at mean high water and 20 feet at mean low water. The drawbridge operation regulations are listed at 33 CFR 117.605(c).

The owner of the bridge, Massachusetts Department of Transportation, requested a temporary deviation from the regulations to facilitate bridge rehabilitation repairs, replacement of operating machinery, structural steel, and highway deck on the swing span.

Under this temporary deviation the bridge may remain in the closed position from February 13, 2012 through May 11, 2012.

The bridge rarely opens during the time period this temporary deviation will be in effect. In addition, mariners may use an alternate channel to the south under the Chain Bridge, which is a fixed highway bridge that provides 28 feet of vertical clearance at mean high water and 35 feet of vertical clearance at mean low water.

In accordance with 33 CFR 117.35(e), the bridge must return to its regular operating schedule immediately at the end of the designated time period. This deviation from the operating regulations is authorized under 33 CFR 117.35.

Dated: February 1, 2012.
Gary Kassof,
Bridge Program Manager, First Coast Guard District.

[FR Doc. 2012-3101 Filed 2-9-12; 8:45 am]

BILLING CODE 9110-04-P